DEPARTMENT OF EDUCATION

[CFDA No. 84.330B]

Advanced Placement (AP) Test Fee Program

AGENCY: Office of Elementary and Secondary Education (OESE), Department of Education.

ACTION: Notice reopening the AP Test Fee fiscal year (FY) 2011 competition.

SUMMARY: On September 1, 2010, we published in the Federal Register (75 FR 53681) a notice inviting applications for the AP Test Fee FY 2011 competition. That notice established a November 17, 2010 deadline date for eligible applicants to apply for funding under this program. In order to afford as many eligible applicants as possible an opportunity to receive funding under this program, we are reopening the AP Test Fee FY 2011 competition to eligible applicants that did not apply for funds by the November 17, 2010 deadline. An eligible applicant that submitted its application by the November 17, 2010 deadline does not need to re-submit its application. All information in the September 1, 2010 notice remains the same for this notice reopening the competition, except for the following updates to Dates.

Dates: Applications Available: December 6, 2010.

Deadline for Transmittal of Applications: December 21, 2010.

Note: Applications for grants under this program must be submitted electronically using the Electronic Grant Application System (e-Application) accessible through the Department's e-Grants site. For information about how to submit your application electronically, please refer to Electronic Submission of Applications in the September 1, 2010 notice (75 FR 53682-53683). We encourage eligible applicants to submit their applications as soon as possible to avoid any problems with filing electronic applications on the last day.

Deadline for Intergovernmental Review: February 22, 2011.

FOR FURTHER INFORMATION CONTACT: Francisco Ramirez, U.S. Department of Education, 400 Maryland Avenue, SW., Room 3E224, Washington, DC 20202-6200. Telephone: (202) 260-1541 or by e-mail: Francisco.Ramirez@ed.gov.

If you use a telecommunications device for the deaf (TDD), call the Federal Relay Service (FRS), toll free, at 1-800-877-8339. Individuals with disabilities can obtain a copy of the application package in an accessible format (e.g., braille, large print, audiotape, or computer diskette) by contacting the program person listed in this section.

Electronic Access to This Document: You can view this document, as well as all other documents of this Department published in the Federal Register, in text or Adobe Portable Document Format (PDF) on the Internet at the following site: http://www.ed.gov/news/fedregister. To use PDF you must have Adobe Acrobat Reader, which is available free at this site.

If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 6531-6537.

Dated: December 1, 2010.
Thelma Meléndez de Santa Ana,
Assistant Secretary for Elementary and Secondary Education.

[FR Doc. 2010-30513 Filed 12-3-10; 8:45 am]

BILLING CODE P